DEPARTMENT OF LABOR

Employment and Training Administration

[TA-W-65,714]

Egide USA, Inc.; Cambridge, MD; Notice of Termination of Investigation

Pursuant to Section 221 of the Trade Act of 1974, as amended, an investigation was initiated on March 31, 2009, in response to a petition filed by the State of Maryland on behalf of workers at Egide USA, Inc., Cambridge, Maryland.

The petitioner has requested that the petition be withdrawn. Consequently, the investigation has been terminated.

Signed at Washington, DC this 3rd day of April 2009.
Elliott S. Kushner,
Certifying Officer, Division of Trade Adjustment Assistance.

[FR Doc. E9-10363 Filed 5-5-09; 8:45 am]

BILLING CODE 4510-FN-P